DEPARTMENT OF THE INTERIOR

Bureau of Land Management

[LLES962000 L14400000 BJ0000 18X]

Notice of Filing of Plats of Surveys; Eastern States

AGENCY: Bureau of Land Management, Interior.

ACTION: Notice of Official Filing.

SUMMARY: The plats of surveys of the following described lands are scheduled to be officially filed in the Bureau of land Management (BLM), Eastern States Office, Washington, DC, 30 days from the date of this publication. The surveys, executed at the request of the identified agencies is required for the management of these lands.

DATES: Unless there are protests of this action, the filing of the plat described in this notice will happen on September 25, 2019.

ADDRESSES: Written notices protesting any of these surveys must be sent to the State Director, BLM Eastern States, Suite 950, 20 M Street SE, Washington, DC 20003.

FOR FURTHER INFORMATION CONTACT: Kenneth D. Roy, Chief Cadastral Surveyor for Eastern States; (202) 912-7756; email: Kroy@blm.gov; or U.S. Postal Service: BLM-ES, 20 M Street SE, Suite 950, Washington, DC 20003. Attn: Cadastral Survey. Persons who use a telecommunications device for the deaf may call the Federal Information Relay Service (FIRS) at 1-800-877-8339 to contact the above individual during normal business hours. The service is available 24 hours a day, 7 days a week, to leave a message or question with the above individual. You will receive a reply during normal business hours.

SUPPLEMENTARY INFORMATION: The dependent resurvey and corrective dependent resurvey of portions of the boundaries of the “Public Settlement Lands” recited in the Act of August 18, 1987, (Pub. L. 100-95) held in trust for the Wampanoag Tribal Council of Gay Head Inc., in the town of Gay Head, Dukes County, in the State of Massachusetts. Survey requested by the Bureau of Indian Affairs (BIA), Eastern Region.

The dependent resurvey and survey of the boundaries of land held in trust by the United States, commonly referred to as the Henderson Parcel for the Houlton Band of Maliseet Indians, in Houlton and Littleton, Aroostook County, in the State of Maine.

The resurvey of a portion of the Westerly Right of Way of the Foxcroft Road, a metes and bounds survey in lot 13, ranges 3 and 4, and a survey of the thread of the Meduxnekeag River, Lots 13 and 14, range 4, and in lot 12, range 3 for lands held in trust for the Houlton Band of Maliseet Indians, in Houlton, Aroostook County, in the State of Maine. Survey requested by the Houlton Band of Maliseet Indians.

A person or party who wishes to protest a survey must file a written notice of protest within 30 calendar days from the date of this publication at the address list in the ADDRESSES section of this notice. A statement of reasons for the protest may be filed with the notice of protest and must be filed within 30 calendar days after the protest is filed. If a protest against the survey is received prior to the date of official filing, the filing will be stayed pending consideration of the protest. A plat will not be officially filed until the day after all protests have been dismissed or otherwise resolved.

Before including your address, phone number, email address, or other personal identifying information in your comment, please be aware that your entire protest, including your personal identifying information may be made publicly available at any time. While you can ask us in your comment to withhold your personal identifying information from public review, we cannot guarantee that we will be able to do so.

A copy of the described plats will be placed in the open files, and available to the public as a matter of information.

Authority: 43 U.S.C. Chap. 3.

Kenneth D. Roy,
Chief Cadastral Surveyor.

[FR Doc. 2019-18253 Filed 8-23-19; 8:45 am]

BILLING CODE 4310-GJ-P